NUCLEAR REGULATORY COMMISSION

[Docket Nos. 50-335 and 50-389]

Florida Power and Light Company, et al.; Notice of Withdrawal of Application for Amendment to Facility Operating Licenses

The U.S. Nuclear Regulatory Commission (the Commission) has granted the request of Florida Power and Light Company, et al. (the licensee), to withdraw portions of its April 21, 2005, application for proposed amendments to Facility Operating License Nos. DPR-67 and NPF-16 for St. Lucie Units 1 and 2, respectively, located in St. Lucie County, Florida.

The portions of the proposed amendments would have revised the Technical Specifications (TSs) to adopt certain provisions of the Combustion Engineering Standard TSs regarding remote shutdown and postaccident monitoring instrumentation.

The Commission had previously issued a Notice of Consideration of Issuance of Amendment published in the Federal Register on July 5, 2005 (70 FR 38720). However, by letter dated September 27, 2006, the licensee withdrew portions of the proposed amendments.

For further details with respect to this action, see the application for amendment dated April 21, 2005, and the licensee's letter dated September 27, 2006, which withdrew portions of the application for license amendment. Documents may be examined, and/or copied for a fee, at the NRC's Public Document Room (PDR), located at One White Flint North, Public File Area O1 F21, 11555 Rockville Pike (first floor), Rockville, Maryland. Publicly available records will be accessible electronically from the Agencywide Documents Access and Management Systems (ADAMS) Public Electronic Reading Room on the Internet at the NRC Web site, http://www.nrc.gov/reading-rm.html. Persons who do not have access to ADAMS or who encounter problems in accessing the documents located in ADAMS should contact the NRC PDR Reference staff by telephone at 1-800-397-4209, or 301-415-4737 or by e-mail to pdr@nrc.gov.

Dated at Rockville, Maryland, this 28th day of September 2006.
For the Nuclear Regulatory Commission.
Brendan T. Moroney,
Project Manager, Plant Licensing Branch II-2, Division of Operating Reactor Licensing, Office of Nuclear Reactor Regulation.

[FR Doc. E6-16359 Filed 10-3-06; 8:45 am]

BILLING CODE 7590-01-P